DEPARTMENT OF THE INTERIOR

Bureau of Reclamation

[A10-1523-2000-229-00-0-1, 3205000]

Notice of Intent To Prepare an Environmental Impact Statement and Public Scoping Meetings for the White Mountain Apache Tribe Rural Water System Project, Arizona

AGENCY: Bureau of Reclamation, Interior.

ACTION: Notice of intent and public scoping meetings.

SUMMARY: The Bureau of Reclamation, the lead Federal agency, and the Bureau of Indian Affairs and White Mountain Apache Tribe (WMAT), cooperating agencies, are intending to prepare an Environmental Impact Statement (EIS) for the proposed WMAT Rural Water System. Pursuant to the WMAT Water Rights Quantification Act (Title III of the Claims Resolution Act of 2010), the United States Congress authorized and directed Reclamation to plan, design, and construct the WMAT Rural Water System to divert, store, and distribute water from the North Fork of the White River for the use and benefit of the WMAT. The proposed action would fulfill the Bureau of Reclamation's statutory mandate under the WMAT Water Rights Quantification Act. The Rural Water System would also serve the purpose of providing a long-term, dependable, and sustainable water supply for residents and businesses on the Fort Apache Indian Reservation.

DATES: Submit written comments on the scope of the EIS on or before October 28, 2013. Two scoping meetings will be held to solicit public input on the scope of the environmental document, alternatives, concerns, and issues to be addressed in the EIS.

The scoping meetings dates are:

1. Friday, September 20, 2013, 6:00 p.m. to 9:00 p.m., Cibecue, AZ.

2. Saturday, September 21, 2013, 9:00 a.m.-12:00 p.m., Whiteriver, AZ.

ADDRESSES: Send written comments to Mr. John McGlothlen, Phoenix Area Office, Bureau of Reclamation, 6150 West Thunderbird Road, Glendale, Arizona, 85306-4001; or email jmcglothlen@usbr.gov.

The public scoping meetings will be held at:

1. Cibecue Complex—Feeding Center, 10 West 3rd North Cromwell Road, Cibecue, AZ.

2. Whiteriver—Whiteriver Unified School District Office Training Room II, 963 South Chief Avenue, Whiteriver, AZ.

FOR FURTHER INFORMATION CONTACT: Mr. John McGlothlen, 623-773-6256; jmcglothlen@usbr.gov.

SUPPLEMENTARY INFORMATION: Pursuant to the National Environmental Policy Act (NEPA), the Bureau of Reclamation will prepare the EIS.

Background

The WMAT Water Rights Quantification Agreement was confirmed by the United States Congress in the Claims Resolution Act of 2010 (Pub. L. 111-291, Title III, 124 STAT 3064, 3073 [2010]). This Act authorized and directed the Bureau of Reclamation to construct the WMAT Rural Water System to divert, store, and distribute water from the North Fork of the White River to the WMAT. Section 304(c) of the Act designated Reclamation as the lead Federal agency with respect to ensuring compliance with applicable environmental laws and regulations associated with implementation of the WMAT Rural Water System.

The proposed action would include construction and operation of the WMAT Rural Water System, including a dam and storage reservoir on the North Fork of the White River, water treatment facilities, and a distribution system (i.e., pipelines, pumping stations and water tanks) that would provide water to communities located on the Fort Apache Indian Reservation, including Whiteriver, Fort Apache, Canyon Day, Cedar Creek, Carrizo, and Cibecue. The construction of the Miner Flat Dam, a roller compacted concrete dam, would create a new reservoir called the Miner Flat Reservoir. Water from the Miner Flat Reservoir would be released to the North Fork of the White River, diverted from the stream channel upstream from the community of Whiteriver, and subsequently treated and conveyed via pipeline to Fort Apache Indian Reservation communities. Storage on the North Fork of the White River at Miner Flat Dam could provide multipurpose benefits, including domestic and commercial water supply, recreation, hydropower potential, limited flood control, irrigation, improved in-stream flows for riparian and aquatic habitat, and improved stream temperatures for production of trout at the Alchesay National Fish Hatchery.

The WMAT would become the titled owner and operator of the completed water system after the Bureau of Reclamation completes construction, operates the new facilities for a period of three years, and provides technical assistance to WMAT on the operation and maintenance of the system. The proposed action would fulfill Reclamation's statutory mandate under the Act to plan, design, construct, operate and maintain the WMAT Rural Water System until the date on which title is transferred to the WMAT. For the WMAT, the purpose of the proposed action is to provide multi-purpose water uses, including a secure, safe and dependable, good-quality, fresh water supply for its communities and tribal members.

Indian Trust Assets issues that are expected to be addressed in the EIS include water rights, trust lands, and resources associated with the Fort Apache Indian Reservation. The WMAT has full beneficial title, with legal title held by the United States, to 1.66 million acres of trust land within the Fort Apache Indian Reservation. The WMAT has retained all property rights related to its trust land, including the right to use water that underlies, borders and traverses it.

Special Assistance for Public Scoping Meetings

If special assistance is required at the scoping meetings, please contact Ms. Jessie Haragara at 623-773-6251, or email at jharagara@usbr.gov. Please notify Ms. Haragara at least two weeks in advance of the meeting to enable the Bureau of Reclamation to secure the needed services. If a request cannot be honored, the requestor will be notified.

Public Disclosure

Before including your address, phone number, email address, or other personal identifying information in our comment, you should be aware that your entire comment—including your personal identifying information—may be made publicly available at any time. While you can ask us in your comment to withhold your personal identifying information from public review, we cannot guarantee that we will be able to do so.

Dated: August 29, 2013.
Terrance J. Fulp,
Regional Director, Lower Colorado Region.

[FR Doc. 2013-21717 Filed 9-5-13; 8:45 am]

BILLING CODE 4310-MN-P